DEPARTMENT OF ENERGY

Federal Energy Regulatory Commission

[Docket No. RP96-389-008]

Columbia Gulf Transmission Company; Notice of Negotiated Rate Filing

September 11, 2000.

Take notice that on September 6, 2000, Columbia Gulf Transmission Company (Columbia Gulf) tendered for filing the following contract for disclosure of a recently negotiated rate transaction:

ITS-2 Service Agreement No. 69313 between Columbia Gulf Transmission Company and Southern Company Energy Marketing dated September 1, 2000

Columbia Gulf states that transportation service is scheduled to commence September 6, 2000. Columbia Gulf states that copies of the filing have been served on all parties on the official service list created by the Secretary in this proceeding.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available public inspection in the Public Reference Room. This filing may be viewed on the web at http://www.ferc.fed.us/online/rims.htm (call 202-208-2222 for assistance).

Linwood A. Watson, Jr.,
Acting Secretary.

[FR Doc. 00-23714 Filed 9-14-00; 8:45 am]

BILLING CODE 6717-01-M